FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011782.

Title: COSCON/HJS/SEN Slot Allocation & Sailing Agreement.

Parties: COSCO Container Lines Company, Ltd., Hanjin Shipping Co., Ltd., Senator Lines GMBH.

Synopsis: The proposed agreement authorizes the parties to charter container space to and from each other and rationalize port calls and sailings in the trade between ports in Asia, including China, Hong Kong, Taiwan, Korea, and Japan, and the U.S. Pacific coast.

Dated: November 23, 2001.
By Order of the Federal Maritime Commission.
Theodore A. Zook,
Assistant Secretary.

[FR Doc. 01-29589 Filed 11-27-01; 8:45 am]

BILLING CODE 6730-01-P